INTERNATIONAL TRADE COMMISSION

[Investigation No. 731-TA-1103 (Review)]

Certain Activated Carbon From China

Determination

On the basis of the record ¹ developed in the subject five-year review, the United States International Trade Commission (Commission) determines, pursuant to section 751(c) of the Tariff Act of 1930 (19 U.S.C. 1675(c)), that revocation of the antidumping duty order on certain activated carbon from China would be likely to lead to continuation or recurrence of material injury to an industry in the United States within a reasonably foreseeable time.

¹ The record is defined in sec. 207.2(f) of the Commission's Rules of Practice and Procedure (19 CFR § 207.2(f)).

Background

The Commission instituted this review on March 1, 2012 (77 FR 12614) and determined on June 4, 2012 that it would conduct a full review (77 FR 38082, June 26, 2012). Notice of the scheduling of the Commission's review and of a public hearing to be held in connection therewith was given by posting copies of the notice in the Office of the Secretary, U.S. International Trade Commission, Washington, DC, and by publishing the notice in the Federal Register on June 26, 2012 (77 FR 38082). The hearing was held in Washington, DC, on December 18, 2012, and all persons who requested the opportunity were permitted to appear in person or by counsel.

The Commission transmitted its determination in this review to the Secretary of Commerce on February 22, 2013. The views of the Commission are contained in USITC Publication 4381 (February 2013), entitled Certain Activated Carbon from China: Investigation No. 731-TA-1103 (Review).

By order of the Commission.
Issued: February 22, 2013.
Lisa R. Barton,
Acting Secretary to the Commission.

[FR Doc. 2013-04762 Filed 2-28-13; 8:45 am]

BILLING CODE 7020-02-P